DEPARTMENT OF COMMERCE

National Oceanic and Atmospheric Administration

50 CFR Part 660

[Docket No. 99122347-9347-01; I.D. 060600C]

Fisheries off West Coast States and in the Western Pacific; Pacific Coast Groundfish Fishery; Temporary Closure for the Shore-based Whiting Sector

AGENCY: National Marine Fisheries Service (NMFS), National Oceanic and Atmospheric Administration (NOAA), Commerce.

ACTION: Fishing restrictions; request for comments.

SUMMARY: NMFS announces a temporary closure of the primary season for Pacific whiting (whiting) south of 42° N. lat. at noon June 8, 2000, and reimposition of “per trip” limits for whiting until 0001 hours June 15, 2000, at which time the primary season south of 42° N. lat. will resume. This action is authorized by regulations implementing the Pacific Coast Groundfish Fishery Management Plan (FMP), which governs the groundfish fishery off Washington, Oregon, and California. This action is intended to keep the harvest of whiting at the 2000 allocation levels.

DATES: Effective from noon local time (l.t.) June 8, 2000, until 2400 hours June 14, 2000. Comments will be accepted through June 28, 2000.

ADDRESSES: Submit comments to William Stelle, Jr., Administrator, Northwest Region (Regional Administrator), NMFS, 7600 Sand Point Way NE., Seattle, WA 98115-0070; or Rodney R. McInnis, Acting Regional Administrator, Southwest Region, NMFS, 501 West Ocean Blvd., Suite 4200, Long Beach, CA 90802-4213.

FOR FURTHER INFORMATION CONTACT: Katherine King at 206-526-6145 or Becky Renko at 206-526-6110.

SUPPLEMENTARY INFORMATION: The regulations at 50 CFR 660.323(a) (3) and (4) established separate allocations for the catcher/processor, mothership, and shore-based sectors of the whiting fishery, and authorized separate starting dates for each sector's primary season. The primary season for the shore-based sector is the period(s) when the large-scale target fishery is conducted, and thus when “per trip” limits are not in effect. The regulations further divide the shore-based allocation so that no more than 5-percent of the shore-based allocation for whiting may be taken and retained south of 42° N. lat. before the primary season begins north of 42° N. lat. The primary season for the shore-based sector south of 42° N. lat. began on April 1, 2000, earlier than the northern season which begins on June 15, 2000, because whiting migrate from south to north during the fishing year. (The first large whiting landing south of 42° N. lat. occurred on April 20, 2000, although the fishery could have started on April 1, 1999.) The 5-percent cap is intended to discourage effort shifts to the south area early in the year. The shore-based whiting allocation for 2000 is 83,790 metric tons (mt) and the 5-percent cap on early fishing south of 42° N. lat. is 4,190 mt. When the 5-percent cap is reached, the 20,000-lb (9,072 kg) trip limit that was in place before the start of the southern primary season is reimposed and remains in effect until the start of the northern primary season on June 15, 2000. However, the 20,000-lb (9,072 kg) trip limit only applies if a vessel does not fish inside of 100 fm (183 m) in the Eureka area during the fishing trip. A different trip limit of 10,000-lb (4,536 kg) of whiting is in effect year-round (unless landings of whiting are prohibited) if a vessel fishes inside of 100 fm (183 m) at any time during a fishing trip in the Eureka area. This smaller limit is intended to minimize incidental catch of chinook salmon which are more likely to be caught shallower than 100 fm (183 m) in the Eureka area.

The best available information on June 5, 2000, indicates that 2,797 mt of whiting have been taken by the shore-based fishery south of 42° N. lat. through May 27, 2000, and that 4,190 mt are projected to be taken by noon June 8, 2000. Therefore, the 20,000-lb ( 9,072 kg) “per trip” limits announced in the 2000 annual management measures (65 FR 221, January 4, 2000) will resume until the primary season begins north of 42° N. lat.

For the reasons stated above, and in accordance with the regulations at 50 CFR 660.323(a)(4)(i)(B) and (iii)(D), NMFS revises paragraph B. of Section IV. of the 2000 annual management measures (65 FR 221, as amended), by adding a new sub-paragraph B. (3)(b)(iv) as follows:

IV. NMFS Actions

B. * * *

(3) * * *

(b) * * *

(iv) Closure of shore-based sector south of 42° N. lat. Effective noon June 8, 2000, to 2400 hours (12 midnight) June 14, 2000 l.t., no more than 20,000-lb (9,072 kg) may be taken and retained, possessed or landed south of 42° N. lat. If a vessel fishes shoreward of the 100 fm (183 m) contour in the Eureka area (43°-40° 30′ N. lat.), the 10,000-lb (4,536 kg) trip limit applies, as announced in the annual management measures at paragraph IV, B (3)(c)(ii).

* * * * *

Classification

This action is authorized by the regulations implementing the FMP. The determination to take these actions is based on the most recent data available. The aggregate data upon which the determinations are based are available for public inspection at the office of the Regional Administrator (see ADDRESSES) during business hours. This action is taken under the authority of 50 CFR 660.323(a)(4)(i)(B) and (iii)(D), and is exempt from review under Executive Order 12866.

Authority: 16 U.S.C. 1801 et seq.

Dated: June 7, 2000.
Bruce Morehead,
Acting Assistant Administrator for Fisheries, National Marine Fisheries Service.

[FR Doc. 00-14855 Filed 6-8-00; 2:59 pm]

BILLING CODE 3510-22-F